DEPARTMENT OF STATE

22 CFR Part 42

[Public Notice 4313]

Documentation of Immigrants—Elimination of Extended Visa Validity Benefits Under Section 154 of the Immigration Act of 1990

AGENCY: Department of State.

ACTION: Final rule.

SUMMARY: This rule eliminates the extended visa validity benefit for certain aliens who qualified under section 154 of the Immigration Act of 1990, (IMMACT 90). Section 154 of IMMACT 90 permitted certain aliens resident in Hong Kong to extend the validity of their immigrant visa up to January 1, 2002. Since this extension can no longer be granted, the Department is removing this provision from the regulations.

EFFECTIVE DATE: March 20, 2003.

FOR FURTHER INFORMATION CONTACT: Pam Chavez, Legislation and Regulations Division, Visas Services, Department of State, Washington, DC 20520-0106, by fax to 202-663-3898 or by e-mail to chavezpr@state.gov.

SUPPLEMENTARY INFORMATION:

Aliens Entitled to Extended Visa Validity Under Section 154 of IMMACT 90

On January 30, 1991, the Department published a proposed rule (56 FR 3427) which amended 22 CFR 42.72 by adding a new paragraph (e) which entitled certain residents of Hong Kong who qualified for issuance of an immigrant visa under section 124 of IMMACT 90 to request extended visa validity until January 1, 2002. The Department finalized this rule (56 FR 32322) and it took effect on July 16, 1991. Since this benefit no longer exists, the Department is amending the regulation by removing paragraph (e).

List of Subjects in 22 CFR Part 42

Aliens, Immigrants, Passports and Visas.

In view of the reasons set forth above, 22 CFR part 42 is amended as follows:

PART 42—[AMENDED]

1. The authority citation for part 42 continues to read as follows:

Authority: 8 U.S.C. 1104.

§ 42.72 [Amended]

2. Remove paragraph (e) of § 42.72.

Dated: January 30, 2003.
Maura Harty,
Assistant Secretary for Consular Affairs, Department of State.

[FR Doc. 03-6717 Filed 3-19-03; 8:45 am]

BILLING CODE 4710-06-P